NUCLEAR REGULATORY COMMISSION

Notice of Public Meeting for Fuel Cycle Facilities

AGENCY: Nuclear Regulatory Commission.

ACTION: Meeting notice and request for speakers.

FOR FURTHER INFORMATION CONTACT: James Smith, Project Manager, Technical Support Section, Division of Fuel Cycle Safety and Safeguards, Office of Nuclear Material Safety and Safeguards, U.S. Nuclear Regulatory Commission, Washington, DC 20005-0001. Telephone: (301) 415-6459; fax number: (301) 415-5370; e-mail: jas4@nrc.gov.

SUPPLEMENTARY INFORMATION:

I. Introduction

The Nuclear Regulatory Commission (NRC) is hosting a seminar, The Fuel Cycle Information Exchange 2007 (FCIX 2007), on June 12 and 13, 2007. This will be the second annual hosting of this seminar to provide an opportunity for licensees, NRC staff, and other stakeholders to exchange information and discuss issues of interest pertaining to the regulation of NRC-regulated fuel cycle facilities.

The seminar will be held in Rockville, Maryland, at the Universities of Maryland at the Shady Grove Campus Auditorium and will be open to the public. We are expecting that NRC staff, licensees and certificate holders, and other interested parties and stakeholders will be making presentations on varying subjects of interest, with opportunity for followup discussion on each subject.

II. Requests for Speakers and Topics of Discussion

Speakers from the Nuclear Energy Institute and the NRC have volunteered to address various topics; however, at this early date, the NRC is seeking additional speakers to discuss topics of a broad nature, relative to the nuclear fuel cycle. If you would like an opportunity to discuss an issue, or to offer an additional topic of discussion, please contact the staff member listed below.

The nature of the topics will not be limited; however; we do ask that you not use this as a commercial venue to promote your company's products or services. Additionally, we ask that you provide the staff contact with a Microsoft Powerpoint version of your presentation at least 45 days prior to the seminar.

III. Dates and Location

Dates: June 12, 2007, 9 a.m.-4:30 p.m.; June 13, 2007, 9 a.m.-12 p.m.: Universities of Maryland at the Shady Grove Campus Auditorium, 9630 Gudelsky Drive, Rockville, MD 20850.

IV. Contact

James Smith, Project Manager, Office of Nuclear Material Safety and Safeguards, Division of Fuel Cycle Safety and Safeguards, Special Projects Branch, Mail Stop: T8F42, 301-415-6459, Fax: 301-415-5370, e-mail: jas4@nrc.gov.

V. Further Information

The document related to this action is available electronically at the NRC's Electronic Reading Room at http://www.nrc.gov/reading-rm/adams.html. From this site, you can access the NRC's Agencywide Documents Access and Management System (ADAMS), which provides text and image files of NRC's public documents. The ADAMS ascension number for the document related to this notice is provided in the following table. If you do not have access to ADAMS or if there are problems in accessing the document located in ADAMS, contact the NRC Public Document Room (PDR) Reference staff at 1-800-397-4209, 301-415-4737, or by e-mail to pdr@nrc.gov.

Dated at Rockville, Maryland, this 16th day of February 2007.
For the Nuclear Regulatory Commission.
Wilkins Smith,
Acting Chief, Technical Support Branch, Special Projects, and Technical Support Directorate, Division of Fuel Cycle Safety, and Safeguards, Office of Nuclear Materials Safety, and Safeguards.

[FR Doc. E7-3826 Filed 3-2-07; 8:45 am]

BILLING CODE 7590-01-P